DEPARTMENT OF DEFENSE

Office of the Secretary

[Docket ID DoD-2008-OS-0138]

Privacy Act of 1974; Systems of Records

AGENCY: Defense Finance and Accounting Service, DoD.

ACTION: Notice To Add a New System of Records.

SUMMARY: The Defense Finance and Accounting Service (DFAS) is proposing to add a system of records notice to its inventory of record systems subject to the Privacy Act of 1974, (5 U.S.C. 552a), as amended.

DATES: This action will be effective without further notice on December 12, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft, 303-676-6045.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on October 30, 2008, to the House Committee on Government Reform, the Senate Committee on Homeland Security and Governmental Affairs, and the Office of Management and Budget (OMB) pursuant to paragraph 4c of Appendix I to OMB Circular No. A-130, `Federal Agency Responsibilities for Maintaining Records About Individuals,” dated December 12, 2000, 65 FR 239.

Dated: November 3, 2008.
Morgan E. Frazier,
Alternate OSD Federal Register Liaison Officer, Department of Defense.

T-4500

System name:

Defense Transportation Payment System (DTRS) Records.

System location:

Defense Information Systems Agency, Defense Enterprise Computing Center, Ogden, 8705 Industrial Blvd., Tinker AFB OK 73145-3352.

Defense Finance & Accounting Service (DFAS), Indianapolis, Systems Management Directorate, Vendor Payment System, 8899 E. 56th Street, Indianapolis IN, 46249-0100. Telephone number (317) 510-7789.

Categories of individuals covered by the system:

United States Air Force, Army, active, and reserve members, Department of Defense (DoD) civilian employees and other Federal civilian employees paid by appropriated funds, and whose household goods claims are processed by the Defense Finance and Accounting Service.

Categories of records in the system:

Individual's name, Social Security Number (SSN), Electronic Fund Transfer data, address, telephone number and financial payment information.

Authority for maintenance of the system:

5 U.S.C. 301, Departmental Regulations; Department of Defense Financial Management Regulation (DoDFMR) 7000.14-R, Volume 5; 31 U.S.C. 3511, Prescribing Accounting Requirements and Developing Accounting Systems; 31 U.S.C. 3512, Executive agency accounting and other financial management reports and plans; and 31 U.S.C. 3513, Financial Reporting and Accounting System; and E.O. 9397 (SSN).

Purpose(s):

This system will be a standard base level entitlement system used for making household goods transportation payments. The system will contain accounting records for funding authority, commitments, and obligations. It will account for and produce monthly financial status reports related to the household goods transportation payments that are made to moving companies/carriers, vendors, United States Air Force, Army, active, and reserve members, Department of Defense civilian employees, and other Federal civilian employees whose transportation payments are processed by the Defense Finance and Accounting Service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the DFAS compilation of systems of records notices apply to this system.

Policies and practices for storing, retrieving, accessing, retaining, and disposing of records in the system:

Storage:

Paper records and electronic storage media.

Retrievability:

Name and Social Security Number (SSN).

Safeguards:

Records are stored in an office building protected by guards, controlled screening, use of visitor registers, electronic access, and/or locks. Access to records is limited to authorized individuals who are properly screened and cleared on a need-to-know basis in the performance of their duties.

Passwords and digital signatures are used to control access to the system data, and procedures are in place to deter and detect browsing and unauthorized access. Physical and electronic access are limited to persons responsible for servicing and authorized to use the system.

Retention and disposal:

Records are temporary in nature, cut off at the end of the fiscal year and destroyed 6 years and 3 months after cutoff. Records are destroyed by degaussing, burning, or shredding.

System manager(s) and address:

Defense Finance and Accounting Service, System Management Directorate, Vendor Payment System, 8899 E. 56th Street, Indianapolis, IN 46249-0100. Telephone number (317) 510-7710.

Notification procedure:

Individuals seeking to determine whether information about themselves is contained in this system of records should address written inquiries to the Defense Finance and Accounting, Freedom of Information/Privacy Act Program Manager, Corporate Communication and Legislative Liaison, 6760 E. Irvington Place, Denver, CO 80279-8000.

Individuals should furnish full name, Social Security Number (SSN), current address, and telephone number and provide a reasonable description of the record they are seeking.

Record access procedures:

Individuals seeking access to information about themselves contained in this system of records should address written inquires to Defense Finance and Accounting Service, Freedom of Information/Privacy Act Program Manager, Corporate Communications and Legislative Liaison, 6760 E. Irvington Place, Denver, CO 80279-8000.

Individuals should furnish full name, Social Security Number (SSN), current address, and telephone number and provide a reasonable description of the record they are seeking.

Contesting record procedures:

The DFAS rules for accessing records, for contesting contents and appealing initial agency determinations are published in DFAS Regulation 5400.11-R; 32 CFR part 324; or may be obtained from Defense Finance and Accounting Service, Freedom of Information/Freedom of Information/Privacy Act Program Manager, Corporate Communication and Legislative Liaison, 6760 E. Irvington Place, Denver, CO 80279-8000.

Record source categories:

From the individual concerned, DoD Components, and other Federal agencies such as the State Department and Federal Prisons.

Exemptions claimed for the system:

None.

[FR Doc. E8-26768 Filed 11-10-08; 8:45 am]

BILLING CODE 5001-06-P